DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the CDC announces the following meeting of the aforementioned committee:

Time and Date:2 p.m.-4 p.m. (EDT), Thursday, October 25, 2012.

Place: Teleconference.

Status: Open to the public, limited only by the availability of telephone ports. The public is welcome to participate during the public comment period. The public comment period is tentatively scheduled for 3:50 p.m.-3:55 p.m. To participate in the teleconference, please dial (877) 930-8819 and enter code 1579739.

Purpose: The committee will provide advice to the CDC Director on policy and broad strategies that will enable CDC to fulfill its mission of protecting health through health promotion, prevention, and preparedness.

Matters To Be Discussed: Agenda items will include the following updates from the Global Workgroup; updates from the State, Tribal, Local and Territorial Workgroup; and Ethics Subcommittee, as well as an update from the CDC Director.

The agenda is subject to change as priorities dictate.

Contact Person for More Information: Carmen Villar, MSW, Designated Federal Officer, ACD, CDC, 1600 Clifton Road NE., M/S D-14, Atlanta, Georgia 30333, telephone (404) 639-7000, email: GHickman@cdc.gov. The deadline for notification of attendance is October 19, 2012. To register for this meeting, please send an email to ACDirector@cdc.gov.

The Director, Management Analysis and Services Office, has been delegated the authority to sign Federal Register notices pertaining to announcements of meetings and other committee management activities, for both the Centers for Disease Control and Prevention and the Agency for Toxic Substances and Disease Registry.

Dated: September 14, 2012.
Elaine L. Baker,
Director, Management Analysis and Services Office, Centers for Disease Control and Prevention.

[FR Doc. 2012-23455 Filed 9-21-12; 8:45 am]

BILLING CODE 4163-18-P